ENVIRONMENTAL PROTECTION AGENCY

[FRL-7260-9]

Agency Information Collection Activities: Submission for OMB Review; Comment Request; Risk Management Program Requirements and Petitions To Modify the List of Regulated Substances Under Section 112(r) of the Clean Air Act (CAA)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Risk Management Program Requirements and Petitions to Modify the List of Regulated Substances under section 112(r) of the Clean Air Act (CAA), OMB Control No. 2050-0144, expiring September 30, 2002. The ICR describes the nature of the information collection and its expected burden and cost; where appropriate, it includes the actual data collection instrument.

DATES: Comments must be submitted on or before September 16, 2002.

ADDRESSES: Send comments, referencing EPA ICR No. 1656.09 and OMB Control No. 2050-0144, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epa.gov or download off the Internet at http://www.epa.gov/icr and refer to EPA ICR No. 1656.09. For technical questions about the ICR contact Sicy Jacob at EPA by phone at (202) 564-8019, by e-mail at jacob.sicy@epa.gov.

SUPPLEMENTARY INFORMATION: Title: Risk Management Program Requirements and Petitions to Modify the List of Regulated Substances under section 112(r) of the Clean Air Act (CAA); EPA ICR No. 1656.09, expiring September 30, 2002. This is a request for extension of a currently approved collection.

Abstract: The 1990 CAA Amendments added section 112(r) to provide for the prevention and mitigation of accidental releases. Section 112(r) mandates that EPA promulgate a list of “regulated substances,” with threshold quantities and establish procedures for the addition and deletion of substances from the list of “regulated substances.” Processes at stationary sources that contain a threshold quantity of a regulated substance are subject to accidental release prevention regulations promulgated under CAA section 112(r)(7). These two rules are codified as 40 CFR part 68.

This information collection request addresses the following information requirements: (1) Documenting sources' risk management programs and submitting a source risk management plan (RMP) under CAA section 112(r)(7). The regulations include requirements for covered sources to implement and maintain documentation for a risk management program and submit an RMP (including information on a source's hazard assessment, prevention program, and emergency response program) to EPA. (2) Collecting and submitting information to support petitions to modify the list of regulated substances under CAA section 112(r)(3). The regulations include requirements for a petitioner to submit sufficient information in support of a petition to scientifically support the request to add or delete a chemical from the list of regulated substances. The Agency will use this information in making the decision to grant or deny a petition.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on April 16, 2002 (67 FR 18603). EPA did not receive any comments.

Burden Statement: The annual public reporting burden will depend on the regulatory program tier into which sources are categorized. In this ICR, EPA estimates that only certain entities will be newly subject to the RMP during the three years covered by this ICR. For these newly affected sources, the public reporting burden for rule familiarization, is estimated to be 35 hours per source and 11 hours for other initial compliance. The respondent burden to prepare and submit an RMP is estimated to take 5.0 hours for retailers to 28 hours for complex chemical manufacturers. The respondent burden to maintain on-site documentation is estimated to range from 4.5 hours for retailers to 355 hours for complex chemical manufacturers. The reporting burden for CBI claims is estimated to be 9.5 hours for certain chemical manufacturing sources. The total respondent burden to become familiar with the rule, complete and submit (or revise) the risk management plan, maintain on-site documentation, and substantiate claims for confidential business information is estimated to be about 273,000 hours over three years, or an annual burden of 91,000 hours. The three-year burden estimated for 15 states that may be implementing part 68 program is 18,480 hours, or an annual burden of 6,160 hours. Therefore, the total burden for all sources and states is estimated to be 291,480 hours for three years, or an annual burden of 97,160 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State, Local or Tribal Government, business or other for-profit.

Estimated Number of Respondents: 16,635.

Frequency of Response: Every 5 years.

Estimated Total Annual Hour Burden: 97,160.

Estimated Total Annualized Capital, Operating/ Maintenance Cost Burden: $6,700.

Send comments on the Agency's need for this information, the accuracy of the provided burden estimates, and any suggested methods for minimizing respondent burden, including through the use of automated collection techniques to the following addresses. Please refer to EPA ICR No. 1656.09 and OMB Control No. 2050-0144 in any correspondence.

Dated: August 6, 2002.
Oscar Morales,
Director, Collection Strategies Division.

[FR Doc. 02-20869 Filed 8-15-02; 8:45 am]

BILLING CODE 6560-50-P